ENVIRONMENTAL PROTECTION AGENCY

[OECA-2004-0018; FRL-7867-7]

Agency Information Collection Activities; Submission for OMB Review and Approval; Comment Request; NSPS for Polymeric Coating of Supporting Substrates Facilities, ICR Number 1284.07, OMB Number 2060-0181

AGENCY: Environmental Protection Agency (EPA).

ACTION: Notice.

SUMMARY: In compliance with the Paperwork Reduction Act, this document announces that an Information Collection Request (ICR) has been forwarded to the Office of Management and Budget (OMB) for review and approval. This is a request to renew an existing approved collection. This ICR is scheduled to expire on January 31, 2005. Under OMB regulations, the Agency may continue to conduct or sponsor the collection of information while this submission is pending at OMB. This ICR describes the nature of the information collection and its estimated burden and cost.

DATES: Additional comments may be submitted on or before March 7, 2005.

ADDRESSES: Submit your comments, referencing docket ID number OECA-2004-0018, to (1) EPA online using EDOCKET (our preferred method), by e-mail to docket.oeca@epa.gov, or by mail to: Environmental Protection Agency, EPA Docket Center (EPA/DC), Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Leonard Lazarus, Compliance Assessment and Media Programs Division, Office of Compliance (2223A), Environmental Protection Agency, 1200 Pennsylvania Avenue, NW., Washington, DC 20460; telephone number: (202) 564-6369; fax number: (202) 564-0050; e-mail address: lazarus.leonard@epa.gov.

SUPPLEMENTARY INFORMATION: EPA has submitted the following ICR to OMB for review and approval according to the procedures prescribed in 5 CFR 1320.12. On May 25, 2004 (69 FR 29718), EPA sought comments on this ICR pursuant to 5 CFR 1320.8(d). EPA received no comments.

EPA has established a public docket for this ICR under Docket ID No. OECA-2004-0018, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is: (202) 566-1752. An electronic version of the public docket is available through EPA Dockets (EDOCKET) at http://www.epa.gov/edocket. Use EDOCKET to submit or view public comments, access the index listing of the contents of the public docket, and to access those documents in the public docket that are available electronically. When in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: NSPS for Polymeric Coating of Supporting Substrates Facilities (40 CFR part 60, subpart VVV) (Renewal).

Abstract: New Source Performance Standards (NSPS) subpart VVV applies to each coating operation and any onsite mix preparation equipment used to prepare coating for the polymeric coating of supporting substrates, that commences construction, modification or reconstruction after April 30, 1987. The rule establishes standards for volatile organic compound (VOC) use, emission reduction limits, and for capture and recovery of VOC emissions. The monitoring and recordkeeping requirements include: maintain records of startups, shutdowns, malfunctions, periods where the continuous monitoring system is inoperative 60.7(b), and of all measurements including performance test measurements, operating parameters of monitoring device results for catalytic or thermal incinerator, carbon adsorption system, condensation system, vapor capture system and/or total enclosure 60.744(c-h); and monitor actual 12-month volatile organic compounds (VOC) use and make semiannual estimate of projected VOC use, if affected facility uses less than 95 Mg/year of VOC or is subject to provisions specified in § 60.742(c)(3) and other information required by this part recorded in a file suitable for inspection. The recordkeeping, monitoring and reporting requirements allow the regulatory agencies to determine compliance with the standard. One-time reports are required to identify the affected facilities and the compliance method used. Semiannual reports of compliance and quarterly reports of monitoring exceedances and periods of noncompliance are used to verify compliance. Annual reports of when an affected facility first exceeds a projected VOC use limit or the 12-month actual VOC limit are used to determine the applicable requirements. Since none of the required reports to the Agency have been deemed confidential business information, they will not be treated as such. Responses are mandatory (40 CFR part 60, subpart VVV).

An agency may not conduct or sponsor, and a person is not required to respond to, a collection of information unless it displays a currently valid OMB Control Number. The OMB Control Numbers for EPA's regulations are listed in 40 CFR part 9 and 48 CFR chapter 15, and are identified on the form and/or instrument, if applicable. The recordkeeping, notification and reporting requirements of the standard are critically important as they allow the Agency to determine to which facilities the standards apply and they enable the Agency to monitor initial and ongoing compliance with the standards. As much as possible, in order to reduce the burden, the compliance monitoring and recordkeeping requirements are designed to cover parameters that are already being monitored as part of the manufacturing process.

Burden Statement: The annual public reporting and recordkeeping burden for this collection of information is estimated to average 83 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of facilities performing polymeric coating of supporting substrates.

Estimated Number of Respondents: 53.

Frequency of Response: Initial, on occasion, quarterly, semiannually, monthly, annually.

Estimated Total Annual Hour Burden: 12,623 hours.

Estimated Total Annual Costs: $1,410,367, which includes $48,500 annualized capital/startup costs, $556,500 annual O&M costs, and $805,367 annual labor costs.

Changes in the Estimates: There is a decrease of 1,743 hours in the total estimated burden currently identified in the OMB Inventory of Approved ICR Burdens. This decrease is due to a reduction in the estimate of shutdowns and malfunctions occurring annually, a correction in the number of reported respondents, and a recalculation of burden resulting from reporting activities.

Dated: January 25, 2005.
Oscar Morales,
Director, Collection Strategies Division.

[FR Doc. 05-2062 Filed 2-2-05; 8:45 am]

BILLING CODE 6560-50-P